DEPARTMENT OF TRANSPORTATION

Federal Aviation Administration

14 CFR Part 39

[Docket No. 2001-CE-23-AD; Amendment 39-12256; AD 2001-12-01]

RIN 2120-AA64

Airworthiness Directives; The New Piper Aircraft, Inc. Models PA-46-310P, PA-46-350P, and PA-46-500TP Airplanes

AGENCY: Federal Aviation Administration, DOT.

ACTION: Final rule; request for comments.

SUMMARY: This amendment adopts a new airworthiness directive (AD) that applies to certain The New Piper Aircraft, Inc. (Piper) Models PA-46-310P, PA-46-350P, and PA-46-500TP airplanes. This AD requires you to inspect the left and right inboard flap drive bellcrank assemblies to ensure that the welding is complete and adequate and replace any assembly that has incomplete or inadequate welding. This AD is the result of reports of several instances where the bellcrank in the flap control system failed. The actions specified by this AD are intended to prevent failure of the flap drive bellcrank assemblies caused by incorrect or inadequate welding. Such failure could cause the inability to control the flaps and lead to reduced or loss of control of the airplane.

DATES: This AD becomes effective on June 29, 2001.

The Director of the Federal Register approved the incorporation by reference of certain publications listed in the regulation as of June 29, 2001.

The Federal Aviation Administration (FAA) must receive any comments on this rule on or before July 27, 2001.

ADDRESSES: Submit comments in triplicate to FAA, Central Region, Office of the Regional Counsel, Attention: Rules Docket No. 2001-CE-23-AD, 901 Locust, Room 506, Kansas City, Missouri 64106.

You may get the service information referenced in this AD from The New Piper Aircraft, Inc., Customer Services, 2926 Piper Drive, Vero Beach, Florida 32960. You may examine this information at FAA, Central Region, Office of the Regional Counsel, Attention: Rules Docket No. 2001-CE-23-AD, 901 Locust, Room 506, Kansas City, Missouri 64106; or at the Office of the Federal Register, 800 North Capitol Street, NW, suite 700, Washington, DC.

FOR FURTHER INFORMATION CONTACT: Mr. Gunnar Berg, Aerospace Engineer, FAA, Atlanta Aircraft Certification Office, One Crown Center, 1895 Phoenix Boulevard, Suite 450, Atlanta, Georgia 30349; telephone: (770) 703-6074; facsimile: (770) 703-6097; e-mail address: “Gunnar.Berg@faa.gov”.

SUPPLEMENTARY INFORMATION:

Discussion

What events have caused this AD? The FAA has received reports of several instances where the bellcrank in the flap control system failed on Piper Models PA-46-310P, PA-46-350P, and PA-46-500TP airplanes. Investigation of these instances reveals that the inboard flap drive bellcrank assemblies could have incomplete or inadequate welding. Specifically, the welding may not completely encompass the circumference of the tube-to-arm joint of the assemblies.

These flap drive bellcrank assemblies incorporate Piper part number (P/N)

82905-2 and P/N 82905-3.

What are the consequences if the condition is not corrected? Failure of the flap drive bellcrank assemblies, if not detected and corrected, could cause the inability to control the flaps and lead to reduced or loss of control of the airplane.

Is there service information that applies to this subject? Piper has issued Service Bulletin No. 1062, dated May 11, 2001. This service bulletin includes procedures for inspecting the left and right inboard flap drive bellcrank assemblies to ensure that the welding is complete and adequate.

This service bulletin also specifies replacing any assembly that has incomplete or inadequate welding in accordance with the instructions in the applicable maintenance manual.

The FAA's Determination and an Explanation of the Provisions of This AD

What has FAA decided? The FAA has reviewed all available information, including the service information referenced above, and determined that:

—The unsafe condition referenced in this document exists or could develop on other Piper Models PA-46-310P, PA-46-350P, and PA-46-500TP airplanes of the same type design;

—the actions specified in the previously-referenced service information should be accomplished on the affected airplanes; and

—AD action should be taken in order to correct this unsafe condition.

What does this AD require? This AD requires you to inspect the left and right inboard flap drive bellcrank assemblies to ensure that the welding is complete and adequate and replace any assembly that has incomplete or inadequate welding.

Will I have the opportunity to comment prior to the issuance of the rule? Because the unsafe condition described in this document could result in the inability to control the flaps and lead to reduced or loss of control of the airplane, FAA finds that notice and opportunity for public prior comment are impracticable. Therefore, good cause exists for making this amendment effective in less than 30 days.

Comments Invited

How do I comment on this AD? Although this action is in the form of a final rule and was not preceded by notice and opportunity for public comment, we invite your comments on the rule. You may submit whatever written data, views, or arguments you choose. You need to include the rule's docket number and submit your comments in triplicate to the address specified under the caption ADDRESSES. We will consider all comments received on or before the closing date specified above. We may amend this rule in light of comments received. Factual information that supports your ideas and suggestions is extremely helpful in evaluating the effectiveness of the AD action and determining whether we need to take additional rulemaking action.

Are there any specific portions of the AD I should pay attention to? The FAA specifically invites comments on the overall regulatory, economic, environmental, and energy aspects of the rule that might suggest a need to modify the rule. You may examine all comments we receive before and after the closing date of the rule in the Rules Docket. We will file a report in the Rules Docket that summarizes each FAA contact with the public that concerns the substantive parts of this AD.

We are reviewing the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2001-CE-23-AD.” We will date stamp and mail the postcard back to you.

Regulatory Impact

Does this AD impact various entities? These regulations will not have a substantial direct effect on the States, on the relationship between the national Government and the States, or on the distribution of power and responsibilities among the various levels of government. Therefore, FAA has determined that this final rule does not have federalism implications under Executive Order 13132.

Does this AD involve a significant rule or regulatory action? The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2001-12-01 The New Piper Aircraft, Inc.: Amendment 39-12256; Docket No. 2001-CE-23-AD.

(a) What airplanes are affected by this AD? This AD applies to the following airplane models and serial numbers, that are certificated in any category:

Model | Serial Nos.
PA-46-310P | 46-8408001 through 46-8408087, 46-8508001 through 46-8508109, 46-8608001 through 46-8608067, and 4608001 through 4608140.
PA-46-350P | 4622001 through 4622200 and 4636001 through 4636313.
PA-46-500TP | 4697001 through 4697020, 4697023, 4697024, 4697025, 4697027 through 4697037, 4697040 through 4697052, 4697054, 4697055, 4697058, and 4697059.

(b) Who must comply with this AD? Anyone who wishes to operate one of the affected airplanes must comply with this

AD.

(c) What problem does this AD address? The actions specified by this AD are intended to prevent failure of the flap drive bellcrank assemblies caused by incorrect or inadequate welding. Such failure could cause the inability to control the flaps and lead to reduced or loss of control of the airplane.

(d) What must I do to address this problem? To address this problem, you must accomplish the following actions:

Action | Compliance time | Procedures
Inspect in left and right inboard flap drive bellcrank assemblies, Piper part number (P/N) 82905-2 and P/N 82905-3, to ensure that the welding is complete and adequate. Replace any assembly that has incomplete or inadequate welding | Inspect within the next 10 hours time-in-service (TIS) after June 29, 2001 (the effective date of this AD). Replace as necessary prior to further flight after the inspection where incomplete or inadequate welding is found | Inspect in accordance with Piper Service Bulletin No. 1062, dated May 11, 2001. Replace in accordance with the applicable maintenance manual, as referenced in the service bulletin.
(2) Do not install any inboard flap drive bellcrank assembly, Piper P/N 82905-2 or P/N 82905-3, unless you have ensured that the welding is complete and adequate | As of June 29, 2001 (the effective date of this AD) | Ensure that the welding is complete and adequate in accordance with Piper Service Bulletin No. 1062, dated May 11, 2001.

(e) Can I comply with this AD in any other way? You may use an alternative method of compliance or adjust the compliance time if:

(1) Your alternative method of compliance provides an equivalent level of safety; and

(2) The Manager, Atlanta Aircraft Certification Office, approves your alternative. Send your request through an FAA Principal Maintenance Inspector, who may add comments and then send it to the Manager, Atlanta Aircraft Certification Office.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Mr. Gunnar Berg, Aerospace Engineer, FAA, Atlanta Aircraft Certification Office, One Crown Center, 1895 Phoenix Boulevard, Suite 450, Atlanta, Georgia 30349; telephone: (770) 703-6074; facsimile: (770) 703-6097; e-mail address: “Gunnar.Berg@faa.gov”.

(g) What if I need to fly the airplane to another location to comply with this AD? The FAA can issue a special flight permit under sections 21.197 and 21.199 of the Federal Aviation Regulations (14 CFR 21.197 and 21.199) to operate your airplane to a location where you can accomplish the requirements of this AD. Use of flaps for this flight is prohibited.

(h) Are any service bulletins incorporated into this AD by reference? Actions required by this AD must be done in accordance with Piper Service Bulletin No. 1062, dated May 11, 2001. The Director of the Federal Register approved this incorporation by reference under 5 U.S.C. 552(a) and 1 CFR part 51. You can get copies from The New Piper Aircraft, Inc., 2926 Piper Drive, Vero Beach, Florida 32960. You can look at copies at FAA, Central Region, Office of the Regional Counsel, 901 Locust, Room 506, Kansas City, Missouri, or at the Office of the Federal Register, 800 North Capitol Street, NW, suite 700, Washington, DC.

(i) When does this amendment become effective? This amendment becomes effective on June 29, 2001.

Issued in Kansas City, Missouri, on June 1, 2001.
Michael Gallagher,
Manager, Small Airplane Directorate, Aircraft Certification Service.

[FR Doc. 01-14450 Filed 6-11-01; 8:45 am]

BILLING CODE 4910-13-P